DEPARTMENT OF THE TREASURY

Internal Revenue Service

26 CFR Part 1

[TD 9417]

RIN 1545-BE39

Farmer and Fisherman Income Averaging; Correction

AGENCY: Internal Revenue Service (IRS), Treasury.

ACTION: Correction to final and temporary regulations.

SUMMARY: This document corrects final and temporary regulations (TD 9417) that were published in the Federal Register on Tuesday, July 22, 2008 (73 FR 42522) relating to the averaging of farm and fishing income in computing income tax liability.

FOR FURTHER INFORMATION CONTACT: Amy Pfalzgraf, (202) 622-4960 (not a toll-free number).

SUPPLEMENTARY INFORMATION:

Background

The final and temporary regulations (TD 9417) that are the subject of this correction are under section 1301 of the Internal Revenue Code.

Need for Correction

As published, TD 9417 contains an error that may prove to be misleading and is in need of clarification.

Correction of Publication

Accordingly, the publication of the final and temporary regulations (TD 9417), which were the subject of FR Doc. E8-16665, is corrected as follows:

On page 42522, column 2, in the preamble, under the caption “For Further Information Contact”, line 2, the language “Amy Pfalzgraf, (202) 622-4950 (not a“ is corrected to read “Amy Pfalzgraf (202) 622-4960 (not a “.

LaNita Van Dyke,
Chief, Publications and Regulations Branch, Legal Processing Division, Associate Chief Counsel, (Procedure and Administration).

[FR Doc. E8-20555 Filed 9-4-08; 8:45 am]

BILLING CODE 4830-01-P